EXECUTIVE OFFICE OF THE PRESIDENT

Office of National Drug Control Policy

Designation of 16 Counties as High Intensity Drug Trafficking Areas

AGENCY: Office of National Drug Control Policy (ONDCP), Executive Office of the President.

ACTION: Notice of HIDTA designations.

SUMMARY: The Director of the Office of National Drug Control Policy designated 16 additional counties/cities and removed two counties as High Intensity Drug Trafficking Areas (HIDTAs) pursuant to agency law.

FOR FURTHER INFORMATION CONTACT: Questions regarding this notice should be directed to Michael K. Gottlieb, National HIDTA Program Director, Office of National Drug Control Policy, Executive Office of the President, Washington, DC 20503; (202) 395-4868.

SUPPLEMENTARY INFORMATION: The new counties/cities are (1) Sullivan County in Tennessee and Wood County in West Virginia as part of the Appalachia HIDTA; (2) Greenville County in South Carolina as part of the Atlanta/Carolinas HIDTA; (3) DuPage County in Illinois as part of the Chicago HIDTA; (4) St. Clair County in Michigan as part of the Michigan HIDTA; (5) Ocean County in New Jersey and Oneida County in New York as part of the New York/New Jersey HIDTA; (6) Bradford and Union Counties in Florida as part of the North Florida HIDTA; (7) San Benito County in California as part of the Northern California HIDTA; (8) Bannock County in Idaho as part of the Oregon/Idaho HIDTA; (9) Montgomery County in Pennsylvania as part of the Philadelphia/Camden HIDTA; (10) Collier and Martin Counties in Florida as part of the South Florida HIDTA; (11) Taos County in New Mexico as part of the Southwest Border HIDTA—New Mexico Region; and (12) Dorchester County in Maryland as part of the Washington/Baltimore HIDTA. The Director of ONDCP also removed two counties as HIDTAs pursuant to 21 U.S.C. 1706, effective July 10, 2017. The two counties removed from HIDTA county designation within the Houston HIDTA are Orange and San Patricio counties in Texas. The Executive Board of the Houston HIDTA requested removal of these counties from designation after assessing the threat and determining that these counties no longer met the statutory criteria necessary for designation as HIDTA counties. ONDCP evaluated and accepted the request.

Dated: September 26, 2017.
Michael J. Passante,
Acting General Counsel.

[FR Doc. 2017-20937 Filed 9-28-17; 8:45 am]

BILLING CODE 3280-F5-P